DEPARTMENT OF COMMERCE

National Institute of Standards and Technology

97th Annual Meeting of the National Conference on Weights and Measures

AGENCY: National Institute of Standards and Technology (NIST), Commerce.

ACTION: Notice.

SUMMARY: The 97th Annual Meeting of the National Conference on Weights and Measures (NCWM) will be held July 15-19, 2012. This notice contains information about significant items on the NCWM Committee agendas which will be considered at the meetings, but does not include all agenda items. As a result, the items are not consecutively numbered.

DATES: The meeting will be held on July 15-19, 2012.

ADDRESSES: The meeting will be held at the Holiday Inn by the Bay, 88 Spring Street, Portland, Maine 04101.

FOR FURTHER INFORMATION CONTACT: Ms. Carol Hockert, Chief, NIST, Office of Weights and Measures, 100 Bureau Drive, Stop 2600, Gaithersburg, MD 20899-2600; by telephone (301) 975-5507; or by email at Carol.Hockert@nist.gov. The meetings are open to the public, but a paid registration is required. Please see NCWM Publication 16 “National Conference on Weights and Measures Committee Reports for the 97th Annual Meeting” on the Web (http://www.ncwm.net or http://www.nist.gov/pml/wmd) to view the meeting agendas, registration forms, and hotel information.

SUPPLEMENTARY INFORMATION: Publication of this notice on the NCWM's behalf is undertaken as a public service; NIST does not endorse, approve, or recommend any of the proposals contained in this notice or in the publications of the NCWM.

The NCWM is an organization of weights and measures officials of the states, counties, and cities of the United States, federal agencies, and private sector representatives. These meetings bring together government officials and representatives of business, industry, trade associations, and consumer organizations on subjects related to the field of weights and measures technology, administration and enforcement. NIST participates to promote uniformity among the states in laws, regulations, methods, and testing equipment that comprise the regulatory control of commercial weighing and measuring devices.

The following are brief descriptions of some of the significant agenda items that will be considered at the NCWM Annual Meeting. Comments will be taken on these during several public comment sessions. At this stage, the items are proposals. This meeting also includes work sessions in which the Committees may also accept oral or written comments, and where they will finalize recommendations for NCWM consideration and possible adoption at its voting sessions, which are scheduled for July 18-19, 2012. The Committees may withdraw or carryover items that need additional development.

The Specifications and Tolerances Committee (S&T Committee) will consider proposed amendments to NIST Handbook 44, “Specifications, Tolerances, and other Technical Requirements for Weighing and Measuring Devices.” Those items address weighing and measuring devices used in commercial applications, that is, devices that are used to buy from or sell to the public or used for determining the quantity of product sold among businesses. Issues on the agenda of the NCWM Laws and Regulations Committee (L&R Committee) relate to proposals to amend NIST Handbook 130, “Uniform Laws and Regulations in the area of Legal Metrology and Engine Fuel Quality” and NIST Handbook 133, “Checking the Net Contents of Packaged Goods.”

NCWM Specifications and Tolerances Committee

The following items are proposals to amend NIST Handbook 44:

Item 320-4, UR.1.2. Grain Hopper Scales

The Committee will consider a proposal to add language to NIST Handbook 44 to clarify the requirement that hopper scales manufactured as of January 1, 1986, used to weigh grain, must be Accuracy Class III weighing devices. The submitter of this proposal believes that this revision is needed to help ensure that weights and measures officials uniformly apply the handbook's tolerances and other technical and use requirements to grain hopper scales.

Item 321-1, Belt-Conveyor Scale Systems

The Committee will consider a proposal to add language to NIST Handbook 44 to add a new specification requiring these scales to have an automatic zero ready indicating device. The proposal also includes a requirement that users maintain equipment in accordance with the manufacturer's instructions and that a zero balance condition be established immediately prior to weighing a commodity for a commercial transaction.

Liquid Measuring Devices

Some gasoline and fuel retailers offer a variety of discounts to consumers on fuel prices in connection with marketing services and dispensing product. The Committee will consider the following proposal to modify Section 3.30. Liquid-Measuring Devices. The intent of this proposal is to require that retailers provide consumers with adequate transaction information to assist them in making value comparisons and ensure transparency when fuel purchases are discounted after a delivery.

Item 330-1 includes seven proposed requirements:

S.1.6.4.1. Unit Price

This proposal would modify device specifications to recognize current marketing practices of offering pre or post delivery discounts on fuel prices and require the final unit price information to be displayed.

S.1.6.5.4. Selection of Unit Price

This proposal would allow device manufacturers greater flexibility in the design and operation of customer operated controls on motor-fuel dispensers by recognizing the use of new technology in the selection of a unit price.

S.1.6.6. Agreement Between Indications

This proposal would exempt “total money values” displays on the dispenser and auxiliary equipment (such as the display on a remote control console in an operator's kiosk) from agreement requirements when retailers offer post delivery discounts for a fuel sale.

S.1.6.7. Recorded Representations

This proposal would ensure that, except in fleet sales or under price contracts or where post-delivery discounts are provided, fuel dispensers will provide receipts with sufficient price and other information to allow customers to understand and verify the accuracy of price discounts. The requirement will also recognize the use of either digitally transmitted or printed receipts.

S.1.6.8. Recorded Representations for Transactions Where a Post-Delivery Discount(s) Is Provided

In cases where post delivery discounts on fuel purchases are offered, this proposal would require specific information be printed on receipts made available to consumers so they can verify the accuracy of the transaction and receive a printed record.

UR.3.2. Unit Price and Product Identity

This proposal is intended to clarify the requirements for displaying or posting the final unit price of a fuel offered at a discount and periods where the highest unit price shall be displayed.

UR.3.3. Computing Device

This proposal would require that customer receipts include adequate information to allow the customer to understand and verify any post delivery discounts the retailer provides in connection with a fuel sale.

Electronic Livestock, Meat and Poultry Carcass Evaluation Systems

Item 359-1, Tentative Status of Code 5.59. Electronic Livestock, Meat, and Poultry Evaluation Systems and/or Devices

The Committee will consider the adoption of a proposal to make tentative Code 5.59. in Handbook 44 enforceable so that it can be used to control the accuracy and the use of electronic carcass evaluation equipment. The equipment in this code is used commercially in livestock procurement operations to determine the value of the animals being purchased. Currently, there is no independent, third party verifying the accuracy of these devices. In 2010, 106.9 million hogs weighing 21.8 billion pounds with a total value of $15.7 billion were commercially purchased. Of these purchases, about 80 percent were made on a carcass yield weight basis using an electronic carcass evaluation device. In addition, electronic evaluation devices are used to measure composition or quality constituents in individual cuts of meat for further sale to consumers. Studies have shown that improper use of electronic carcass evaluation equipment can change the value of livestock, meat, and poultry.

NCWM Laws and Regulations Committee

The following items are proposals to amend NIST Handbook 130 or NIST Handbook 133:

Uniform Regulation for the Method of Sale of Commodities

Item 232-1, Method of Sale Regulation—Section 2.13.4. Declaration of Weight (Polyethylene)

The Committee will consider a proposal to revise the density values used to calculate the net weights on packages of polyethylene products to recognize that heavier density plastics are now used in the manufacture of some sheeting and bags. (See also Item 260-4, Handbook 133, Chapter 4.7. Polyethylene Sheeting—Test Procedure—Footnote to Step 3.)

Item 232-2, Method of Sale Regulation—Section 2.19. Kerosene

The Committee will consider a proposal to require that kerosene sold from bulk storage at the retail level be solely on the basis of the gallon or liter (note: Kerosene sold in packaged form is already required under packaging and labeling regulations to be sold by fluid volume).

Item 232-4, Method of Sale Regulation—Section 2.33. Vehicle Motor Oil

The Committee will consider a proposal to adopt a method of sale that includes product labeling, invoicing, and other requirements for motor oil sold to consumers as part of the oil change service. (See also Item 237-4, Handbook 130 Uniform Engine Fuels and Automotive Lubricants Regulation, Section 3.13.1. Labeling of Vehicle Motor Oil.)

Item 232-6, Packaged Printer Ink and Toner Cartridges

A newly formed task group will develop proposals for methods of sale, labeling requirements and test procedures for packaged printer ink and toner cartridges. The NCWM has assigned the group the task of developing proposed regulations that would require manufacturers of these products to declare net weight statements on both toner and packaged printer ink cartridges. The goal in developing these requirements is to provide consumers with information on the net quantity of contents of these products so that value comparisons can be made, and the stated quantities can be verified by weights and measures officials. The task group will meet on Sunday, July 15, 2012, at the NCWM Annual Meeting.

Uniform Engine Fuels and Automotive Lubricants Regulation

Item 237-9, Requirements for Hydrogen, and Item 237-10, Definition for Hydrogen Fuel for Internal Combustion Engines and Fuel Cell Vehicles

The Committee will consider two proposals to adopt a national quality standard for commercial hydrogen fuel and to add hydrogen related definitions to the uniform engine fuel regulation. Both proposals would apply to hydrogen fuel sold through dispensing equipment for use in fuel cells and internal combustion engine vehicles. The first proposal would adopt the most recent version of SAE International's Standard J2719 “Hydrogen Fuel Quality for Fuel Cell Vehicles” by reference to establish quality requirements for hydrogen fuel, and the second proposal would define the hydrogen-related terms of “fuel cell,” “hydrogen fuel,” and “internal combustion engine.” (see also Item 232-7, Handbook 130 Uniform Regulation for the Method of Sale Commodities, Section 2.32.1. Definitions for Hydrogen Fuel.)

Dated: June 23, 2012.
Willie E. May,
Associate Director for Laboratory Programs.

[FR Doc. 2012-16014 Filed 6-28-12; 8:45 am]

BILLING CODE 3510-13-P